DEPARTMENT OF HEALTH AND HUMAN SERVICES

National Institutes of Health

National Library of Medicine; Notice of Meetings, Amended Notice of Meeting

Notice is hereby given of a change in the virtual meeting of the Biomedical Library, Informatics and Data Science Review Committee, November 4, 2021 9:00 a.m. to 6:00 p.m., which was published in the Federal Register on June 24, 2021, 86 FR 119, Page 33329.

This notice is being amended to change the meeting to November 4-5, 2021, times are from 10 a.m. to 4:30 p.m. on November 4th and 10 a.m. to 1:30 p.m. on November 5th. The meeting is closed to the public.

Dated: August 31, 2021.
Miguelina Perez,
Program Analyst, Office of Federal Advisory Committee Policy.

[FR Doc. 2021-19233 Filed 9-3-21; 8:45 am]

BILLING CODE 4140-01-P